DEPARTMENT OF STATE

[Public Notice 6822]

U.S. National Commission for UNESCO Notice of Meeting

The U.S. National Commission for UNESCO will host its Annual Meeting on Thursday, December 17, 2009, from 10 a.m. until 1 p.m. Eastern Time by telephone conference.

The meeting will have a series of subject-specific reports and allow for brief question and answer periods. The Commission will accept brief oral comments or questions from the public or media during a portion of this approximately three-hour conference call. The public comment period will be limited to approximately 15 minutes in total, with two minutes allowed per speaker. Those who wish to present oral comments or listen to the conference call must make arrangements with the Executive Secretariat of the National Commission by December 14, 2009.

The National Commission may be contacted via e-mail at DCUNESCO@state.gov, or via phone at (202) 663-0026. Its Web site can be accessed at: http://www.state.gov/p/io/unesco/.

Dated: November 20, 2009.
Elizabeth Kanick,
Executive Director, U.S. National Commission for UNESCO, Department of State.

[FR Doc. E9-28762 Filed 11-30-09; 8:45 am]

BILLING CODE 4710-19-P